DEPARTMENT OF COMMERCE

International Trade Administration

Agency Information Collection Activities; Submission to the Office of Management and Budget (OMB) for Review and Approval; Comment Request; Annual Report From Foreign-Trade Zones

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 31, 2020 during a 60-day comment period. This notice allows for an additional 30 days for public comments.

Agency: Department of Commerce.

Title: Annual Report from Foreign-Trade Zones.

OMB Control Number: 0625-0109.

Form Number(s): ITA-359P.

Type of Request: Regular submission, extension of a current information collection.

Number of Respondents: 261.

Average Hours per Response: 1 to 76 hours.

Burden Hours: 5,979 hours.

Needs and Uses: The annual reports are used by Congress and the Department to determine the economic effect of the Foreign-Trade Zone program as well as by the Foreign-Trade Zones Board and other trade policy officials to determine whether zone activity is consistent with U.S. international trade policy.

Affected Public: State. Local, tribal governments, or not-for-profit institutions that have been granted foreign-trade zone authority.

Frequency: Annually.

Respondent's Obligation: Mandatory.

Legal Authority: 19 U.S.C. 81(p).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0109.

Sheleen Dumas,
Department PRA Clearance Officer, Office of the Chief Information Officer, Commerce Department.

[FR Doc. 2020-25017 Filed 11-10-20; 8:45 am]

BILLING CODE 3510-DS-P